DEPARTMENT OF HEALTH AND HUMAN SERVICES

Centers for Disease Control and Prevention

[30Day-14-0214]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

The National Health Interview Survey (NHIS), (OMB No. 0920-0214, Expiration 03/31/2016)—Revision—National Center for Health Statistics (NCHS), Centers for Disease Control and Prevention (CDC).

Background and Brief Description

The annual National Health Interview Survey is a major source of general statistics on the health of the U.S. population and has been in the field continuously since 1957. Clearance is sought for three years, to collect data for 2014, 2015, and 2016. This voluntary and confidential household-based survey collects demographic and health-related information on a nationally representative sample of persons and households throughout the country. Personal identification information is requested from survey respondents to facilitate linkage of survey data with health related administrative and other records. Each year we collect information from up to 55,000 households, which contain about 137,500 individuals.

Information is collected using computer assisted personal interviews (CAPI). A core set of data is collected each year that remains largely unchanged while sponsored supplements vary from year to year. The core set includes sociodemographic characteristics, health status, health care services, health insurance, health conditions, and health behaviors. For 2014, supplemental questions will be cycled on pertaining to hearing and balance, arthritis, and heart disease and stroke. Supplemental topics that continue or are enhanced from previous years will be related to the Affordable Care Act, food security, children's mental health, disability and functioning, smokeless tobacco, hepatitis screening, immunizations, and computer use. In 2015, the primary supplements will be on cancer control and prevention and occupational exposures in addition to continuing topics from 2014. In 2016, topics will include the primary supplement on balance and sensory problems and shorter sets of questions pertaining to Healthy People 2020 and health disparities. A Web/CATI multimode follow-back survey will be conducted from sample adult respondents from the 2013-2015 NHIS. The follow-back surveys will focus on topics related to the Affordable Care Act including health care access and use, and health insurance coverage and will include Web, telephone, and mail interviews. Questions related to federal and state health insurance marketplaces will be included.

To improve the analytic utility of NHIS data, minority populations are oversampled annually. In 2014, in addition to ongoing sample augmentation procedures, NCHS will introduce a Native Hawaiian and Pacific Islander oversample. Residents in a sample of 4,000 addresses identified from the 2012 American Community Survey will be administered the 2014 NHIS questionnaire. Results will be released as a separate file from the ongoing NHIS.

In accordance with the 1995 initiative to increase the integration of surveys within the Department of Health and Human Services, respondents to the NHIS serve as the sampling frame for the Medical Expenditure Panel Survey conducted by the Agency for Healthcare Research and Quality. The NHIS has long been used by government, university, and private researchers to evaluate both general health and specific issues, such as cancer, diabetes, and access to health care. It is a leading source of data for the Congressionally-mandated “Health US” and related publications, as well as the single most important source of statistics to track progress toward the National Health Promotion and Disease Prevention Objectives, “Healthy People 2020.”

There is no cost to the respondent other than their time.

Estimated Annualized Burden Table
Questionnaire (respondent) | Number of respondents | Number of responses per respondent | Average burden per respondent (in hours) | Total burden (in hours)
Screener Questionnaire | 10,000 | 1 | 5/60 | 833
Family Core (adult family member) | 45,000 | 1 | 23/60 | 17,250
Adult Core (sample adult) | 36,000 | 1 | 15/60 | 9,000
Child Core (adult family member) | 14,000 | 1 | 10/60 | 2,333
Child/Teen Record Check (medical provider) | 8,000 | 1 | 5/60 | 667
Supplements (adult family member) | 45,000 | 1 | 12/60 | 9,000
Multi-mode study (adult family Member) | 12,000 | 1 | 10/60 | 2,000
Native Hawaiian/ Pacific Islander Survey (adult family member) | 4,000 | 1 | 60/60 | 4,000
Reinterview Survey | 5,000 | 1 | 5/60 | 417
Total Burden Hours |  |  |  | 45,500

LeRoy Richardson,
Chief, Information Collection Review Office, Office of Scientific Integrity, Office of the Associate Director for Science, Office of the Director, Centers for Disease Control and Prevention.

[FR Doc. 2013-29715 Filed 12-12-13; 8:45 am]

BILLING CODE 4163-18-P